DEPARTMENT OF COMMERCE

International Trade Administration

[A-122-855]

Polyethylene Terephthalate Resin From Canada: Notice of Rescission of Antidumping Duty Administrative Review; 2015-2017

AGENCY: Enforcement and Compliance, International Trade Administration, Department of Commerce.

SUMMARY: The Department of Commerce (the Department) is rescinding its administrative review of polyethylene terephthalate resin from Canada for the period or review (POR) October 15, 2015, through April 30, 2017.

DATES: Effective October 20, 2017.

FOR FURTHER INFORMATION CONTACT: Maliha Khan or Karine Gziryan, AD/CVD Operations, Office IV, Enforcement and Compliance, International Trade Administration, U.S. Department of Commerce, 1401 Constitution Avenue NW., Washington, DC 20230; telephone: (202) 482-0895 and (202) 482-4081, respectively.

SUPPLEMENTARY INFORMATION:

Background

On May 1, 2017, the Department published in the Federal Register a notice of “Opportunity to Request Administrative Review” of the antidumping duty order on polyethylene terephthalate resin from Canada for the above POR.¹ On May 31, 2017, in accordance with section 751(a) of the Tariff Act of 1930, as amended (the Act), and 19 CFR 351.213(b), the Department received a timely request from Compagnie Selenis Canada (Selenis) to conduct an administrative review.²

¹ See Antidumping or Countervailing Duty Order, Finding, or Suspended Investigation; Opportunity to Request Administrative Review, 82 FR 20315 (May 1, 2017).

² See Letter from Selenis, “Administrative Review of the Antidumping Duty Order on Polyethylene Terephthalate Resin from Canada: Request for Review,” dated May 31, 2017.

Pursuant to this request and in accordance with 19 CFR 351.221(c)(1)(i), on July 6, 2017, the Department published a notice of initiation of an administrative review of the antidumping duty order on polyethylene terephthalate resin from Canada.³ This administrative review covers Selenis during the period October 15, 2015, through April 30, 2017. On August 24, 2017, Selenis withdrew its request for an administrative review.⁴

³ See Initiation of Antidumping and Countervailing Duty Administrative Reviews, 82 FR 31292 (July 6, 2017) (Initiation Notice).

⁴ See Letter from Selenis, “Administrative Review of the Antidumping Duty Order on Polyethylene Terephthalate Resin from Canada: Withdrawal of Request for Review,” dated August 24, 2017.

Rescission of Review

Pursuant to 19 CFR 351.213(d)(1), the Department will rescind an administrative review if the party that requested the review withdraws its request within 90 days of the publication date of the notice of initiation of the requested review. Selenis withdrew its review request before the 90-day deadline, and no other party requested an administrative review of the antidumping duty order. Therefore, in accordance with 19 CFR 351.213(d)(1), we are rescinding this administrative review in its entirety.

Assessment

The Department will instruct U.S. Customs and Border Protection (CBP) to assess antidumping duties on all appropriate entries of polyethylene terephthalate resin from Canada. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice in the Federal Register.

Notification to Importers

This notice also serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Order

This notice also serves as a reminder to parties subject to administrative protective orders (APO) of their responsibility concerning the disposition of proprietary information disclosed under APO in accordance with 19 CFR 351.305. Timely written notification of the return/destruction of APO materials or conversion to judicial protective order is hereby requested. Failure to comply with the regulations and terms of an APO is a violation which is subject to sanction.

This notice is published in accordance with section 751(a)(1) and 777(i)(1) of the Act, and 19 CFR 351.213(d)(4).

Dated: October 17, 2017.
James Maeder,
Senior Director performing the duties of Deputy Assistant Secretary for Antidumping and Countervailing Duty Operations.

[FR Doc. 2017-22806 Filed 10-19-17; 8:45 am]

BILLING CODE 3510-DS-P